DEPARTMENT OF HOUSING AND URBAN DEVELOPMENT

[Docket No. FR-4651-N02]

Notice of Proposed Information Collection: Comment Request Housing Discrimination Information Form HUD-903 HUD-903A

AGENCY: Office of the Assistant Secretary for Fair Housing and Equal Opportunity, HUD.

ACTION: Notice.

SUMMARY: The proposed information collection requirement concerning the Housing Discrimination Information Form HUD-903 HUD-903A will be submitted to the Office of Management and Budget (OMB) for review, as required by the Paperwork Reduction Act. The Department is soliciting public comments on the subject proposal.

DATES: Comments due date: May 1, 2001.

ADDRESSES: Interested persons are invited to submit comments regarding this proposal. Comments should refer to the proposal by name and/or OMB Control Number and should be sent to Hope File, Department of Housing and Urban Development, 451 7th Street, SW., Room 5228, Washington, DC 20410. Telephone number (202) 619-8041.

FOR FURTHER INFORMATION CONTACT: Hope File, Department of Housing and Urban Development, 451 7th Street, SW., Washington, DC 20410, telephone (202) 619-8041. (This is not a toll-free number). Hearing or speech-impaired individuals may access this number TTY by calling the toll-free Federal Information Relay Service at 1-800-877-8399.

SUPPLEMENTARY INFORMATION: The Department is submitting the proposed information collection to OMB for review, as required by the Paperwork Reduction Act of 1995 (44 U.S.C. Chapter 35, as amended).

This Notice is soliciting comments from members of the public and affecting agencies concerning the proposed collection of information for: The collection of information relative to the Fair Housing Act. The Act prohibits discrimination in the sale or rental of dwellings, and the availability of real estate-related transactions based on race, color, religion, sex, national origin, handicap or familial status.

Any person who claims to have been injured by a discriminatory housing practice or who believes that he or she will be irrevocably injured by a discriminatory housing practice may file a complaint no later than one year after the alleged discriminatory housing practice occurs. The HUD-903 was developed to provide for uniformity in the documents that, by statute, must be furnished to the person(s) against whom complaints are filed as well as for the convenience of the public. The HUD regulation states what each complaint should contain. For the purposes of meeting the statutory time requirement for filing complaints (1 year), initially these complaints do not have to be submitted on the form that HUD provides. The Housing Discrimination Complaint Form HUD-903 (English) and HUD-903A (Spanish) may be filed by mail, in person or by telephone with the Office of Fair Housing and Equal Opportunity (FHEO), Department of Housing and Urban Development. FHEO staff uses the information provided by this form as the basis for the Department's determination of jurisdiction over a complaint's allegations.

Notice of Submission of Proposed Information Collection to OMB

Title of Proposal: Housing Discrimination Information Form.

Office: Fair Housing and Equal Opportunity.

OMB Control Number: 2529-0011.

Description of the need for the information and proposed use: The Housing Discrimination Information Form is necessary for the collection of information from person(s) who wish to file a housing discrimination complaint under the Fair Housing Act (the Act). The Act makes it unlawful to discriminate in housing and residential real estate-related transactions based on race, color, religion, sex, national origin, familial; status or handicap (disability).

Any person who claims to have been injured by a discriminatory housing practice, or who believes that he or she will be injured by a discriminatory practice that is about to occur, may bring their claim to HUD no later than one year after the alleged discriminatory housing practice takes place. The new form provides for uniformity in collecting information needed to contact person(s) who file a complaint, and for making initial assessments regarding HUD's jurisdiction under the Act. Subsequently, such data is furnished to person(s) against whom complaints are filed, as required by statute.

Agency form numbers, if applicable: Form HUD-903 (English) and HUD-903A (Spanish).

Members of affected public: Individuals or households, businesses or other for-profit, not-for-profit institutions, State, Local or Tribal Government.

Estimation of the total numbers of hours needed to prepare the information collection including number of respondents, frequency or response, and hours of responses: The Department estimates that during the course of a year, approximately 10,750 complaints are submitted to HUD. It is estimated that it takes a complainant approximately 20 minutes to complete the form. These forms are completed one time by each complainant. Therefore the total number of annual burden hours for this form is 3583 hours. (10,750 × 1 (frequency) × 20 minutes = 3583 hours.)

There is no annualized cost to complainants. Complainants submit the form to HUD by mail using a postage-paid mailer at no cost to the complainant. They also may complete the form electronically via the Internet.

Status of the proposed information collection: Reinstatement of a currently approved revised collection to reflect the collection of information from person(s) wishing to file a housing discrimination complaint.

Authority: The Paperwork Reduction Act of 1995, 44 U.S.C. Chapter 35, as amended.

Dated: February 16, 2001.
David H. Enzel,
Deputy Assistant Secretary, Enforcement and Programs.

[FR Doc. 01-5046 Filed 3-1-01; 8:45 am]

BILLING CODE 4210-28-M